TENNESSEE VALLEY AUTHORITY

Sunshine Act Meeting

Agency Holding the Meeting: Tennessee Valley Authority (Meeting No. 1556).

Time and Date: 9 a.m. (c.s.t.), November 30, 2004, Lucille N. Galin Municipal Auditorium, 204 Second Avenue, NE., Cullman, Alabama.

Status: Open.

Agenda

Approval of minutes of meeting held on October 27, 2004.

New Business

A—Budget and Financing

A1. Retention of Net Power Proceeds and Nonpower Proceeds and Payments to the United States Treasury.

A2. Approval of tax-equivalent payments for Fiscal Year 2004 and estimated payments for Fiscal Year 2005.

B—Purchase Awards

B1. Contracts with Siemens Information and Communications Networks, Inc.; SBC Global Services, Inc.; Northrop Grumman Information Technology; and Henkels & McCoy, Inc., for telecommunications network equipment.

B2. Contract with CDW-Government, Inc., to furnish a Microsoft Enterprise Agreement that provides standard software, including upgrades and support, for both personal computers and enterprise servers.

B3. Supplement to contract with Cigna Healthcare of Tennessee for a health maintenance organization medical plan option.

B4. Contract with Connecticut General Life Insurance Company for dental benefit services.

C—Energy

C1. Delegation of authority to the Executive Vice President, Fossil Power Group, to enter into a contract with Burlington Northern & Santa Fe Railway for transportation of coal from Wyoming to Memphis, Tennessee.

C2. Delegation of authority to the Executive Vice President, Fossil Power Group, to enter into two term coal supply contracts with Arch Coal Sales Company, Inc., for coal to supply various TVA fossil plants.

C3. Delegation of authority to the Executive Vice President, Fossil Power Group, to enter into a term contract with Massey Utility Sales Company for coal to supply various TVA fossil plants.

C4. Delegation of authority to the Executive Vice President, Fossil Power Group, to enter into a term coal contract with Thunder Basin Coal Company LLC for Powder River Basin coal to supply various TVA fossil plants through transportation terminals or direct delivery to the plants.

C5. Contracts with Voith Siemens Hydro Power Generation, Inc., and General Electric Company to provide turbines, mechanical equipment, and engineering and field services to support the completion of TVA's Hydro Modernization Program and to support other RSO&E hydro projects as needed.

E—Real Property Transactions

E1. Sale of a permanent easement affecting approximately 14.79 acres of land, Tract No. XJCCJC-1E, and a nonexclusive road easement affecting approximately .58 acre of land, Tract No. XJCCJC-2AR, to the Johnson City Power Board for commercial and light industrial development in Washington County, Tennessee.

E2. Grant of a permanent easement to the State of Tennessee for a highway and bridge improvement project affecting approximately 6.8 acres of land on Boone Dam Reservation in Sullivan County, Tennessee, Tract No. XTBR-23H.

E3. Sale of a 30-year term commercial recreation easement, with conditional options to renew for two additional 30-year terms, affecting approximately 235 acres of land on Cherokee Reservoir in Hamblen and Grainger Counties, Tennessee, Tract No. XCK-587RE.

F—Other

F1. Approval to file condemnation cases to acquire easements, rights-of-way, and right to enter for TVA power transmission line projects affecting the Pickwick-South Jackson Tap to East Savannah Transmission Line in Hardin County, Tennessee, and the Waynesboro-Clifton City Transmission Line in Wayne County, Tennessee.

Information Items

1. Approval of revisions to Competitive Indexed Rate arrangements among North Georgia EMC, Shaw Industries, and TVA.

2. Approval of a request by the city of Scottsboro, Alabama, for land allocation changes to the 2001 Guntersville Reservoir Land Management Plan, affecting Tract Nos. XGR-108PT2, XGR-109PT2, and XGR-110PT2, in Jackson County, Alabama.

3. Approval of Alliance Capital Management L.P. as a new investment manager for the TVA Retirement System and the management agreement between the System and the new investment manager.

4. Amendments to Rules and Regulations of the TVA Retirement System to provide a new method for calculating TVA contributions to the System and to establish procedures for a reserve account.

5. Amendments to the Rules and Regulations of the TVA Retirement System and to the Provisions of the TVA Savings and Deferral Retirement Plan (401(k) Plan) to provide credit for certain lump-sum payments made in lieu of base wage or salary increases for the purposes of calculating pension benefits.

6. Approval of the TVA contribution to the TVA Retirement System for Fiscal Year 2005.

7. Approval of a public auction sale of the Knoxville Office Complex East Tower, Tract No. XKOC-4, and associated easements, Tract Nos. XKOC-5E and -6E.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: November 23, 2004.
Maureen H. Dunn,
General Counsel and Secretary.

[FR Doc. 04-26423 Filed 11-24-04; 2:24 pm]

BILLING CODE 8120-08-P